DEPARTMENT OF ENERGY

Federal Energy Regulatory Commission

[Docket Nos. ER08-637-000; ER08-637-001; ER08-637-004; ER08-637-005]

Midwest Independent Transmission System Operator, Inc.; Notice of Filing

January 14, 2009.

Take notice that on January 12, 2009, Alliant Energy Corporate Services and Midwest TDU's ¹ filed an Offer of Settlement in the above-referenced proceeding.

¹ Midwest TDU's consist of the Great Lakes Utilities, Madison Gas & Electric Company, Midwest Municipal Transmission Group, Missouri Joint Municipal Electric Agency of Nebraska, and Wisconsin Public Power Inc.

By this notice, initial comments should be filed on or before January 27, 2009. Reply comments should be filed on or before February 3, 2009.

Kimberly D. Bose,
Secretary.

[FR Doc. E9-1349 Filed 1-22-09; 8:45 am]

BILLING CODE 6717-01-P